INTERNATIONAL TRADE COMMISSION

[Investigation No. 337-TA-921 (Enforcement Proceeding)]

Certain Marine Sonar Imaging Devices, Including Downscan and Sidescan Devices, Products Containing the Same, and Components Thereof; Notice of Institution of Formal Enforcement Proceeding

AGENCY: U.S. International Trade Commission.

ACTION: Notice.

SUMMARY: Notice is hereby given that the U.S. International Trade Commission has instituted a formal enforcement proceeding relating to the December 1, 2015 cease and desist orders issued in the above-referenced investigation.

FOR FURTHER INFORMATION CONTACT: Ronald A. Traud, Office of the General Counsel, U.S. International Trade Commission, 500 E Street SW., Washington, DC 20436, telephone (202) 205-3427. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (https://www.usitc.gov). The public record for this investigation may be viewed on the Commission's electronic docket (EDIS) at https://edis.usitc.gov. Hearing-impaired persons are advised that information on this matter can be obtained by contacting the Commission's TDD terminal on (202) 205-1810.

SUPPLEMENTARY INFORMATION: The Commission instituted the original investigation on July 14, 2014 based on a complaint filed by Navico, Inc. of Tulsa, Oklahoma, and Navico Holding AS, of Egersund, Norway (collectively, “Navico”). 79 FR 40778 (July 14, 2014). The complaint alleged violations of Section 337 of the Tariff Act of 1930, as amended, 19 U.S.C. 1337, in the importation into the United States, the sale for importation, and the sale within the United States after importation of certain marine sonar imaging devices, including downscan and sidescan devices, products containing the same, and components thereof by reason of infringement of certain claims of U.S. Patent Nos. 8,305,840 (“the '840 patent”), 8,300,499 (“the '499 patent”), and 8,605,550 (“the '550 patent”). Id. The notice of investigation named as respondents Garmin International, Inc. (“Garmin International”), Garmin USA, Inc. (“Garmin USA”), both of Olathe, Kansas; and Garmin (Asia) Corporation of New Taipei City, Taiwan (“Garmin Asia”). Id. The Office of Unfair Import Investigations (“OUII”) was also named as a party. Id.

On December 1, 2015, the Commission found a violation of Section 337 based on infringement of claims 1, 5, 7, 9, 11, 16-19, 23, 32, 39-41, 63, and 70-72 of the '840 patent and infringement of claims 32 and 44 of the '550 patent, but found no violation with respect to the '499 patent. 80 FR 76040-41 (Dec. 7, 2015). The Commission issued a limited exclusion order prohibiting Garmin International, Garmin USA, and Garmin Asia from importing certain marine sonar imaging devices, including downscan and sidescan devices, products containing the same, and components thereof that infringe certain claims of the '840 and '550 patent. Id. The Commission also issued cease and desist orders against Garmin International, Garmin USA, and Garmin Asia prohibiting the sale and distribution within the United States of articles that infringe certain claims of the '840 and '550 patents. Id. at 76041.

On August 30, 2016, Navico filed a complaint requesting that the Commission institute a formal enforcement proceeding under Commission Rule 210.75(b) to investigate violations of the December 1, 2015 cease and desist orders by Garmin International and Garmin USA (collectively, “Garmin”). Having examined the complaint and the supporting documents, the Commission has determined to institute a formal enforcement proceeding to determine whether Garmin is in violation of the December 1, 2015 cease and desist orders issued in the original investigation and what, if any, enforcement measures are appropriate. The following entities are named as parties to the formal enforcement proceeding: (1) Complainant Navico; (2) respondents Garmin International and Garmin USA; and (3) OUII.

The authority for the Commission's determination is contained in Section 337 of the Tariff Act of 1930, as amended (19 U.S.C. 1337), and in section 210.75 of the Commission's Rules of Practice and Procedure (19 CFR 210.75).

By order of the Commission.
Issued: October 11, 2016.
Lisa R. Barton,
Secretary to the Commission.

[FR Doc. 2016-24987 Filed 10-14-16; 8:45 am]

BILLING CODE 7020-02-P